DEPARTMENT OF COMMERCE

International Trade Administration

U.S. Department of Agriculture—Albany, CA, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 03-007. Applicant: U.S. Department of Agriculture, Albany, CA 94710. Instrument: Electron Microscope, Model Tecnai G ² TWIN, G ² Upgrade, and Accessories. Manufacturer: FEI Company, The Netherlands. Intended Use: See notice at 68 FR 9984, March 3, 2003. Order Date: September 27, 2002.

Docket Number: 03-008. Applicant: The Rockefeller University, New York, NY 10021. Instrument: Electron Microscope, Model Tecnai G ² 12 BioTWIN. Manufacturer: FEI Company, The Netherlands. Intended Use: See notice at 68 FR 9984, March 3, 2003. Order Date: February 22, 2002.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 03-7688 Filed 3-28-03; 8:45 am]

BILLING CODE 3510-DS-M